DEPARTMENT OF TRANSPORTATION

Office of the Secretary

[Docket No. DOT-OST-2010-0211]

RIN 2105-AE07

Notice of Submission of Proposed Information Collection to OMB Agency Request for Renewal of a Previously Approved Information Collection Request: Reports by Air Carriers on Incidents Involving Animals During Air Transport

AGENCY: Office of the Secretary (OST), Department of Transportation (Department or DOT).

ACTION: Notice and request for comments.

SUMMARY: In accordance with the Paperwork Reduction Act of 1995 (PRA), this notice announces that the request to renew the previously approved information collection request (ICR) OMB No. 2105-0552, “Reports by Air Carriers on Incidents Involving Animals During Air Transport,” has been forwarded to the Office of Management and Budget (OMB). The current ICR approved by OMB expires August 31, 2018. DOT published a Federal Register notice with a 60-day comment period soliciting comments on the collection of information on May 21, 2018.

DATES: Comments on this notice must be received by September 28, 2018.

ADDRESSES: You may submit comments (identified by Docket No. DOT-OST-2010-0211) through one of the following methods:

• Federal eRulemaking Portal: http://www.regulations.gov. Follow the online instructions for submitting comments.

• Mail: Docket Management Facility; U.S. Department of Transportation, 1200 New Jersey Avenue SE, West Building, Room W12-140, Washington, DC 20590.

• Hand Delivery: U.S. Department of Transportation, West Building Ground Floor, 1200 New Jersey Avenue SE, Room W12-140, Washington, DC 20590, between 9 a.m. and 5 p.m., Monday through Friday, except on Federal Holidays. The telephone number is 202-366-9329.

FOR FURTHER INFORMATION CONTACT: Vinh Q. Nguyen, Senior Trial Attorney, Office of the General Counsel, Office of the Secretary, U.S. Department of Transportation, 1200 New Jersey Avenue SE, Washington, DC, 20590, 202-366-9342 (Voice), 202-366-7152 (Fax), or vinh.nguyen@dot.gov (Email).

SUPPLEMENTARY INFORMATION: The PRA and its implementing regulations, 5 CFR part 1320, require Federal agencies to issue two notices seeking public comment on information collection activities before OMB may approve paperwork packages. On May 21, 2018, the Department published a 60-day notice in the Federal Register ¹ soliciting comment on the renewal of the previously approved ICR OMB No. 2105-0552, “Reports by Air Carriers on Incidents Involving Animals During Air Transport.” ² The Department received two comments in response to the notice.

¹ 83 FR 23524 (May 21, 2018).

² Id.

The Pet Industry Joint Advisory Council (PIJAC) states that the current reporting requirements should be retained and renewed. PIJAC explains that there are an increased number of people traveling with, or shipping, their pets. PIJAC states even though the number of incidents involving the loss, injury, or death of an animal is small, the publicity of such incidents is growing. PIJAC believes that transparency is the best method for confirming that incidents involving the loss, injury, or death of an animal are in fact extremely rare.

The American Veterinary Medical Association (AVMA) also supports the renewal of the ICR. AVMA states that the information collected and provided in the reports is vital for ongoing analysis of adverse events and effective identification of areas of focus for prevention of future incidents. AMVA states that public access to these reports is important for animal owners researching and deciding whether air travel is a responsible option for their animal, as well as for veterinarians whose clients often approach them for recommendations regarding transportation options. AVMA suggests expanding the reporting requirement to include the following information: incidents involving the loss, injury, or death of an animal transported within the cabin; standard names for dog breeds; results of internal investigations and necropsies; and additional details on the nature, extent, and conditions of the animal's travel. AVMA also suggests a number of ways the reporting burden could be minimized, such as a creating a simplified reporting interface with drop-down selections, allowing an option to import veterinary health certificate information, reducing the frequency of the reports from monthly to quarterly, and providing covered carriers an option to update records with pertinent information after the filing deadline.

We carefully considered all of the comments filed in response the notice requesting the renewal of the previously approved ICR OMB No. 2105-0552, “Reports by Air Carriers on Incidents Involving Animals During Air Transport.” Accordingly, the Department announces that this ICR has been re-evaluated and certified under 5 CFR 1320.5(a) and forwarded to OMB for review and approval pursuant to 5 CFR 1320.12(c).

Before OMB decides whether to approve these proposed collections of information, it must provide 30 days for public comment.³ Federal law requires OMB to approve or disapprove paperwork packages between 30 and 60 days after the 30-day notice is published.⁴ OMB believes that the 30-day notice informs the regulated community to file relevant comments and affords the agency adequate time to digest public comments before it renders a decision.⁵ Therefore, respondents should submit their respective comments to OMB within 30 days of publication to best ensure their full consideration. The summaries below describe the nature of the ICR and the expected burden. The unchanged requirements are being submitted for clearance by OMB as required by the PRA.

³ 44 U.S.C. 3507(b); 5 CFR 1320.12(d).

⁴ 44 U.S.C. 3507(b)-(c); 5 CFR 1320.12(d).

⁵ 60 FR 44978, 44983 (August 29, 1995).

Title: Reports by Air Carriers on Incidents Involving Animals During Air Transport.

OMB Control Number: 2105-0552.

Type of Request: Renewal of currently approved Information Collection Request.

Background: The Wendell H. Ford Aviation Investment and Reform Act for the 21st Century or “AIR-21” (Pub. L. 106-181), which was signed into law on April 5, 2000, includes section 710, “Reports by Carriers on Incidents Involving Animals During Air Transport.” This provision was codified as 49 U.S.C. 41721. The statute requires air carriers that provide scheduled passenger air transportation to submit monthly to the Secretary of Transportation a report on any incidents involving the loss, injury, or death of an animal (as defined by the Secretary of Transportation) during air transport provided by the air carrier.

On August 11, 2003, DOT, through its Federal Aviation Administration (FAA), issued a final rule implementing section 710 of AIR-21.⁶ The rule required air carriers that provide scheduled passenger air transportation to submit a report to APHIS on any incident involving the loss, injury, or death of an animal during air transportation provided by the air carrier. Due to issues regarding whether APHIS had the capability to accept such information directly from the carriers, DOT made a technical change in the rule on February 14, 2005, to require air carriers to submit the required information directly to DOT's Aviation Consumer Protection Division (ACPD) rather than APHIS and to make the rule part of DOT's economic regulations.⁷

⁶ Reporting Directive Regarding Incidents Involving Animals During Air Transport, 68 FR 47798 (August 11, 2003).

⁷ Reports by Air Carriers on Incidents Involving Animals During Air Transport, 70 FR 7392 (February 14, 2005).

On July 3, 2014, DOT published a final rule amending the requirement that air carriers file reports with DOT on the loss, injury, or death of animals during air transport.⁸ The rule (1) expanded the reporting requirement from the largest U.S. carriers (i.e., U.S. carriers that account for at least 1 percent of domestic scheduled passenger revenue) to U.S. carriers that operate scheduled service with at least one aircraft with a design capacity of more than 60 seats; (2) expanded the definition of “animal” from only a pet in a family household to include all cats and dogs transported by covered carriers, regardless of whether the cat or dog is transported as a pet by its owner or as part of a commercial shipment (e.g., shipped by a breeder); (3) required covered carriers to file a calendar-year report in December, even if the carrier did not have any reportable incidents during the calendar year; (4) required covered carriers to provide in their December reports the total number of animals that were lost, injured, or died during air transport in the calendar year; and (5) required covered carriers to provide in their December reports the total number of animals transported in the calendar year. On August 25, 2015, OMB approved the information collection request, “Reports by Air Carriers on Incidents Involving Animals During Air Transport,” through August 31, 2018.

⁸ Reports by Air Carriers on Incidents Involving Animals During Air Transport, 79 FR 37938 (July 3, 2014) (codified at 14 CFR part 235).

As noted earlier, on May 21, 2018, DOT published a Federal Register notice with a 60-day comment period to renew this ICR. The comment period closed July 20, 2018.

In order to reduce burden to covered carriers, the ACPD established a website and online system for filing the required reports, http://animalreport.ost.dot.gov. This system enables covered carriers to easily and efficiently submit their reports through the internet rather than sending the reports to the Department by mail or email.

Respondents: U.S. carriers that operate scheduled passenger service with at least one aircraft having a designed seating capacity of more than 60 seats.

Estimated Number of Respondents: 32.

Frequency: For each respondent, one information set for the month of December, plus one information set during some other months (1 to 12).

Estimated Total Burden on Respondents: (1) Monthly reports of incidents involving the loss, injury, or death of animals during air transport: 0 to 384 hours (Respondents [32] × Time to Prepare One Monthly Report [1 hour] × Frequency [0 to 12 per year]). (2) December report containing the total number of animals that were lost, injured, or died during air transport in the calendar year and the total number of animals that were transported in the calendar year: 16 hours (Respondents [32] × Time to Prepare One December Report [0.5 hour] × Frequency [1 per year]).

Public comments invited: You are asked to comment on any aspect of this information collection, including (a) whether the proposed collection of information is necessary for the Department's performance; (b) the accuracy of the estimated burden; (c) ways for the Department to enhance the quality, utility, and clarity of the information collection; and (d) ways that the burden could be minimized without reducing the quality of the collected information. All comments will become a matter of public record.

Authority: The Paperwork Reduction Act of 1995; 44 U.S.C. Chapter 35, as amended; and 49 CFR 1.27(n).

Issued in Washington, DC, on August 23, 2018
Blane A. Workie,
Assistant General Counsel for Aviation Enforcement and Proceedings.

[FR Doc. 2018-18730 Filed 8-28-18; 8:45 am]

BILLING CODE 4910-9X-P